DEPARTMENT OF AGRICULTURE

Animal and Plant Health Inspection Service

[Docket No. 05-019-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for the humane handling, care, treatment, and transportation of marine mammals under the Animal Welfare Act.

DATES: We will consider all comments that we receive on or before June 14, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-019-1, Regulatory Analysis and Development, PPD,APHIS, Station 3C71, 4700 River Road Unit 118, Riverdale, MD 20737-1238. Please state that your comment refers to Docket No. 05-019-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information concerning the Animal Welfare Act regulations and standards for marine mammals, contact Dr. Barbara Kohn, Senior Staff Veterinarian, Animal Care, APHIS, 4700 River Road Unit 84, Riverdale, MD 20737; (301) 734-7833. For copies of more detailed information on the information collection, contact Mrs. Celeste Sickles, APHIS' Information Collection Coordinator, at (301) 734-7477.

SUPPLEMENTARY INFORMATION: Title: Animal Welfare, 9 CFR Part 3, Marine Mammals.

OMB Number: 0579-0115.

Type of Request: Extension of approval of an information collection.

Abstract: The Animal Welfare Act standards and regulations have been promulgated to promote and ensure the humane handling, care, treatment, and transportation of regulated animals. The regulations in 9 CFR part 3, subpart E, cover marine mammals.

The regulations in 9 CFR part 3, subpart E, require facilities to complete a number of information collection activities, such as written protocols for cleaning, contingency plans, daily records of animal feeding, water quality records, documentation of facility-based employee training, plans for any animals kept in isolation, medical records, a description of the interactive program, and health certificates for transportation of marine mammals. These information collection activities do not mandate the use of any official government forms. APHIS needs this information to ensure compliance with the regulations intended to ensure the humane care and treatment of marine mammals.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.1698175 hours per response.

Respondents: Employees or attendants of USDA licensed/registered marine mammal facilities.

Estimated annual number of respondents: 2,197.

Estimated annual number of responses per respondent: 24.847.

Estimated annual number of responses: 54,588.

Estimated total annual burden on respondents: 9,270 hours. (Due to averaging, the total annual burden hours may not equal the product of the annual number of responses multiplied by the reporting burden per response.)

All responses to this notice will be summarized and included in the request for OMB approval. All comments will also become a matter of public record.

Done in Washington, DC, this 12th day of April 2005.
Elizabeth E. Gaston,
Acting Administrator, Animal and Plant Health Inspection Service.

[FR Doc. 05-7584 Filed 4-14-05; 8:45 am]

BILLING CODE 3410-34-P